FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel Operating Common Carrier Ocean Transportation Intermediary Applicants

Americar Global Logistics, Inc., 13778 SW 144th Terrace, Miami, FL 33186, Officers: Michael O'Neal Archer, President (Qualifying Individual), Richard Haynes, Vice President.

Topocean Consolidation Service (ORD) Inc., 729 North, Route 83, Suite 311, Bensenville, IL 60106, Officers: C.C. Chen, Manager (Qualifying Individual), Vic Cheung, President.

William's Caribbean Shipping & Delivery Services, Inc., 275 Howard Avenue, Brooklyn, NY 11233, Officer: Charles Williams, President (Qualifying Individual).

Trans Global-NA USA, Inc., 1185 Morris Avenue, Union, NJ 07083, Officers: Poul Rosander, Vice President (Qualifying Individual), John Hansen, President.

Topwinner Transportation (USA) Inc., 1641 West Main Street, Suite 302, Alhambra, CA 91801, Officers: Fu-Chiu (Fred), Chou, President (Qualifying Individual), Wei-Ju, Chou, Secretary.

Polo Logistics, Inc., 267 5th Avenue, Suite B-1, New York, NY 10016, Officers: Hasan Akipek, Vice President (Qualifying Individual), Hasan Ozcilingir, President.

Fox Freight Forwarders, Inc., 3727 NW 52nd Street, Miami, FL 33142, Officer: Maria S. Hugues, President (Qualifying Individual).

Canon Express Inc., 5230 W. Century Blvd., Suite 508, Los Angeles, CA 90045, Officers: James J. Jhung, President/CEO (Qualifying Individual), Young H. Jhung, CFO.

Non-Vessel Operating Common Carrier and Ocean Freight Forwarder Transportation Intermediary Applicants

J.D. Pacific Inc., 53-28 187th Street, Fresh Meadows, NY 11365, Officers: Liu, Ying (Kathy), Exec. Manager (Qualifying Individual), Li, Heng, President.

Publiship Logistics Inc., 129 Washington Street, 3rd Floor, Hoboken, NJ 07030, Officers: Wolfgang H.G. Schmid, Vice President (Qualifying Individual), Sam Higgins, President.

CDS Overseas, Inc., One Cross Island Plaza, Suite #111, Rosedale, NY 11422, Officer: Danston Lam, Vice President (Qualifying Individual), Joseph Yau, President.

Ocean Freight Forwarder—Ocean Transportation Intermediary Applicants

Kodai (U.S.A.), Inc., 2440 South Hacienda, Suite 210, Hacienda Heights, CA 91745, Officers: Eric Hsi, Secretary (Qualifying Individual), An, Wenqi, CEO.

Intersect Systems International LLC, 2210 Meyers Avenue, Escondido, CA 92029, Officer: Alycia Cerini, President (Qualifying Individual).

Kare International, 3171 W. Olympic Blvd., #165, Los Angeles, CA 90006, Katy C. Chang, Sole Proprietor.

Dated: March 7, 2003.
Bryant L. VanBrakle,
Secretary.

[FR Doc. 03-5918 Filed 3-11-03; 8:45 am]

BILLING CODE 6730-01-P